ENVIRONMENTAL PROTECTION AGENCY

40 CFR Part 300

[FRL-6848-4]

National Oil and Hazardous Substances Pollution Contingency Plan; National Priorities List

AGENCY: Environmental Protection Agency (EPA).

ACTION: Proposed deletion of the Palmetto Recycling Site from the National Priorities List (NPL).

SUMMARY: The EPA proposes to delete the Palmetto Recycling Site from the National Priorities List (NPL) and requests public comment on this action. The NPL constitutes Appendix B of 40 CFR part 300 which is the National Oil and Hazardous Substances Pollution Contingency Plan (NCP), which EPA promulgated pursuant to section 105 of the Comprehensive Environmental Response, Compensation, and Liability Act of 1980, as amended (CERCLA). The EPA has determined that the site poses no significant threat to public health or the environment and therefore, further response measures pursuant to CERCLA are not appropriate.

We are publishing this rule without prior proposal because the Agency views this as a noncontroversial revision and anticipates no dissenting comments. A detailed rationale for this approval is set forth in the direct final rule. If no dissenting comments are received, no further activity is contemplated. If EPA receives dissenting comments, the direct final action will be withdrawn and all public comments received will be addressed in a subsequent final rule based on this proposed rule. The EPA will not institute a second comment period. Any parties interested in commenting should do so at this time.

DATES: Comments concerning this Action must be received by September 13, 2000.

ADDRESSES: Written comments may be mailed to Yvonne Jones, (4WD-NSMB) Remedial Project Manager, U.S. Environmental Protection Agency, 61 Forsyth Street, Atlanta, Georgia 30303, (404) 562-8793, Fax (404) 562-8778, email jones.yvonneO@epa.gov. Comprehensive information on this Site is available through the public docket which is available for viewing at the Site Information Repositories at the following locations: U.S. EPA Region IV, Administrative Records, 61 Forsyth Street, Atlanta, Georgia 30303, (404) 562-8862 and the Northeast Regional Library, 7490 Parklane Road, Columbia, South Carolina 29223.

FOR FURTHER INFORMATION CONTACT: Yvonne Jones, (4WD-NSMB) Remedial Project Manager, U.S. Environmental Protection Agency, 61 Forsyth Street, Atlanta, Georgia 30303, (404) 562-8793, Fax (404) 562-8778, email jones.yvonneO@epa.gov.

SUPPLEMENTARY INFORMATION: For additional information, see the Direct Final Action which is located in the Rules section of this Federal Register.

Authority: 33 U.S.C. 1321(c)(2); 42 U.S.C. 9601-9657; E.O. 12777, 56 FR 54757, 3 CFR, 1991 Comp.; p. 351; E.O. 12580, 52 FR 2923, 3 CFR, 1987 Comp.; p. 193.

Dated: July 31, 2000.
Michael V. Peyton,
Acting Regional Administrator, EPA Region IV.

[FR Doc. 00-20319 Filed 8-11-00; 8:45 am]

BILLING CODE 6560-50-U